DEPARTMENT OF ENERGY

Federal Energy Regulatory Commission

Combined Notice of Filings #1

Docket Numbers: EC18-150-000.

Applicants: Noble Altona Windpark, LLC, Noble Bliss Windpark, LLC, Noble Chateaugay Windpark, LLC, Noble Clinton Windpark I, LLC, Noble Ellenburg Windpark, LLC, Noble Wethersfield Windpark, LLC.

Description: Application for Authorization under Section 203 of the Federal Power Act, et al. of Noble Altona Windpark, LLC, et al.

Filed Date: 9/4/18.

Accession Number: 20180904-5184.

Comments Due: 5 p.m. ET 9/25/18.

Take notice that the Commission received the following electric rate filings:

Docket Numbers: ER17-1428-003.

Applicants: Tilton Energy LLC.

Description: Compliance filing: Settlement Compliance Filing to be effective 10/12/2017.

Filed Date: 8/31/18.

Accession Number: 20180831-5173.

Comments Due: 5 p.m. ET 9/21/18.

Docket Numbers: ER18-2359-001.

Applicants: PJM Interconnection, L.L.C.

Description: Tariff Amendment: Errata Filing to Second Revised ISA SA No. 2832; Queue No. AC1-181 to be effective 8/8/2018.

Filed Date: 9/4/18.

Accession Number: 20180904-5154.

Comments Due: 5 p.m. ET 9/25/18.

Docket Numbers: ER18-2377-000.

Applicants: Southwestern Public Service Company.

Description: Application for Waivers and for Approval of Customer Credit Mechanism for Pipeline Refund Amounts of Southwestern Public Service Company.

Filed Date: 9/4/18.

Accession Number: 20180904-5193.

Comments Due: 5 p.m. ET 9/25/18.

Docket Numbers: ER18-2378-000.

Applicants: Midcontinent Independent System Operator, Inc.

Description: § 205(d) Rate Filing: 2018-09-05_SA 3143 Blazing Star-NSPM E&P (J460) to be effective 9/6/2018.

Filed Date: 9/5/18.

Accession Number: 20180905-5063.

Comments Due: 5 p.m. ET 9/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 5, 2018.
Nathaniel J. Davis, Sr.,
Deputy Secretary.

[FR Doc. 2018-19694 Filed 9-10-18; 8:45 am]

BILLING CODE 6717-01-P